DEPARTMENT OF COMMERCE

International Trade Administration

[A-533-810]

Stainless Steel Bar from India: Notice of Intent to Rescind Antidumping Duty Administrative Review of Ferro Alloys Corporation Limited

AGENCY: Import Administration, International Trade Administration, Department of Commerce.

SUMMARY: In response to requests from interested parties, the Department of Commerce is conducting an administrative review of the antidumping duty order on stainless steel bar from India for the period February 1, 2004, through January 31, 2005. The Department intends to rescind this review with respect to Ferro Alloys Corporation Limited after concluding that no entries of subject merchandise were made during the period of review.

EFFECTIVE DATE: November 22, 2005.

FOR FURTHER INFORMATION CONTACT: Devta Ohri, AD/CVD Operations, Office 1, Import Administration, International Trade Administration, U.S. Department of Commerce, 14th Street and Constitution Avenue, NW., Washington, DC 20230; telephone (202) 482-3853.

SUPPLEMENTARY INFORMATION:

Background

On February 1, 2005, the Department of Commerce (“the Department”) published a notice in the Federal Register providing an opportunity for interested parties to request an administrative review of the antidumping duty order on stainless steel bar (“SSB”) from India for the period February 1, 2004, through January 31, 2005. See Antidumping or Countervailing Duty Order, Finding, or Suspended Investigation; Opportunity To Request Administrative Review, 70 FR 5136. On February 22, 2005, we received a timely request for review from Shah Alloys Ltd. (“Shah”).¹ On February 25, 2005, we received a timely request for review and revocation from Venus Wire Industries Pvt. Limited (“Venus”). On February 28, 2005, we received timely review requests from Ferro Alloys Corporation Limited (“Facor”), Chandan Steel Limited (“Chandan”), Isibars Limited (“Isibars”), Mukand Limited (“Mukand”), and the Viraj Group (“Viraj”).² On February 28, 2005, Carpenter Technology Corporation, Electralloy Corporation, and Crucible Specialty Metals Division, Crucible Materials Corporation (collectively, “the petitioners”) also requested an administrative review of Viraj. On March 23, 2005, the Department initiated an administrative review of the antidumping duty order on SSB from India with respect to Facor, Chandan, Isibars, Mukand, and Venus.³ See Initiation of Antidumping and Countervailing Duty Administrative Reviews and Requests for Revocation in Part, 70 FR 14643.

¹ On February, 28, 2005, the Department declined Shah's request for review because Shah explicitly stated in its request that it did not have any export sales to the United States during the period of review.

² We did not initiate with respect to Viraj because the order for this company was revoked on September 14, 2004. See Letter from the Department to Peter J. Koenig, Esq. (counsel to Viraj), “Extension Requests,” dated April 19, 2005; see also Stainless Steel Bar From India; Final Results, Rescission of Antidumping Duty Administrative Review in Part, and Determination To Revoke in Part, 69 FR 55409 (Sept. 14, 2004); Initiation of Antidumping and Countervailing Duty Administrative Reviews and Requests for Revocation in Part, 70 FR 14643 (Mar. 23, 2005).

³ This Federal Register notice only pertains to the Department's intent to rescind the current administrative review with regard to Facor. Therefore, this notice will not discuss developments in the administrative review with respect to Chandan, Isibars, Mukand, or Venus.

On March 29, 2005, the Department issued its antidumping duty questionnaire to Facor. On May 4, 2005, and May 31, 2005, after being granted a series of extensions, Facor filed its responses to section A and sections B-D of the Department's antidumping duty questionnaire, respectively. Upon reviewing Facor's questionnaire responses, the Department learned that Facor had no entries of subject merchandise during the period of review, February 1, 2004, through January 31, 2005 (“POR”).

On June 9, 2005, and October 5, 2005, the Department issued supplemental questionnaires to Facor requesting additional information on Facor's U.S. sales process and date of sale. On June 16, 2005, and October 19, 2005, Facor filed its responses to the Department's supplemental questionnaires.

To confirm that Facor made no entries of subject merchandise during the POR, the Department requested data from U.S. Customs and Border Protection (“CBP”) on July 26, 2005. CBP provided the Department with the requested data on September 8, 2005. This data was placed on the record on September 26, 2005. See Memorandum to the File, “U.S. Customs and Border Protection Data,” dated September 26, 2005.

Scope of the Order

Merchandise covered by the order is shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of this proceeding. See Memorandum to Barbara E. Tillman, Antidumping Duty Orders on Stainless Steel Bar from India and Stainless Steel Wire Rod from India: Final Scope Ruling (May 23, 2005).

Intent to Rescind the Administrative Review of Facor

Pursuant to section 751(a)(2)(A) of the Tariff Act of 1930 (as amended) (“the Act”), when conducting an administrative review, the Department examines entries of subject merchandise. According to 19 CFR 351.213(d)(3), the Department will rescind an administrative review in whole or only with respect to a particular exporter or producer, if we conclude that during the POR, there were no entries, exports, or sales of the subject merchandise, as the case may be. The Department has interpreted the statutory and regulatory language as requiring “that there be entries during the period of review upon which to assess antidumping duties.” Granular Polytetrafluoroethylene Resin from Japan: Notice of Rescission of Antidumping Duty Administrative Review, 70 FR 44088, 44088 (Aug. 1, 2005). Moreover, in Chia Far Industrial Factory Co., Ltd., v. United States, 343 F. Supp. 2d 1344, 1374 (CIT Aug. 2, 2004), the Court affirmed the Department's rescission of a review for lack of entries (“Commerce correctly decided to rescind Ta Chen's review based on the fact that there were no entries of the merchandise at issue during the POR, regardless of whether there were sales.”).

In this administrative review, Facor reported no entries of subject merchandise to the U.S. market during the POR, a fact which the Department confirmed by conducting an inquiry with CBP. Even if the Department's practice were to review sales, as opposed to entries, Facor had no sales during the POR. In its questionnaire responses, Facor argued that the Department should use the purchase order date, as opposed to the invoice date, as the U.S. date of sale. However, the Department's rebuttable presumption is to use the invoice date as the date of sale. See 19 CFR 351.401(i). Facor failed to provide a compelling reason for the Department to deviate from its standard practice. According to information on the record, Facor issued no sales invoices to the United States during the POR. As Facor had no U.S. sales or entries during the POR, the Department intends to rescind the current administrative review with respect to Facor.

Public Comment

Interested parties may comment on the Department's intent to rescind the administrative review with respect to Facor. Comments will be considered in the Department's preliminary results, which are currently due on February 28, 2006.

This notice is published in accordance with section 777(i) of the Act and 19 CFR 351.213(d)(4).

Dated: November 15, 2005.
Joseph A. Spetrini,
Acting Assistant Secretary for Import Administration.

[FR Doc. E5-6445 Filed 11-21-05; 8:45 am]

BILLING CODE 3510-DS-S